DEPARTMENT OF TRANSPORTATION

Surface Transportation Board

[Docket No. FD 35595]

Wellsboro & Corning Railroad, LLC—Acquisition and Operation Exemption—Wellsboro & Corning Railroad Company

Wellsboro & Corning Railroad, LLC (WCLLC), a noncarrier, has filed a verified notice of exemption under 49 CFR 1150.31 to acquire from Wellsboro & Corning Railroad Company and to operate approximately 35.5 miles of rail line between milepost 109.90 at Wellsboro, Pa., and milepost 74.70 at Erwin, NY, in Tioga County, PA, and Steuben County, NY.

WCLLC states that it intends to interchange traffic with Norfolk Southern Railway Company and Canadian Pacific Railway Company.

The transaction is scheduled to be consummated on or after March 7, 2012 (30 days after the notice of exemption was filed).

WCLLC certifies that its projected annual revenues as a result of this transaction will not result in its becoming a Class II or Class I rail carrier and will not exceed $5 million.

If the verified notice contains false or misleading information, the exemption is void ab initio. Petitions to revoke the exemption under 49 U.S.C. 10502(d) may be filed at any time. The filing of a petition to revoke will not automatically stay the effectiveness of the exemption. Petitions to stay must be filed no later than February 29, 2012 (at least 7 days before the exemption becomes effective).

An original and 10 copies of all pleadings, referring to Docket No. FD 35595, must be filed with the Surface Transportation Board, 395 E Street, SW., Washington, DC 20423-0001. In addition, a copy of each pleading must be served on Louis E. Gitomer, 600 Baltimore Ave., Suite 301, Towson, MD 21204.

Board decisions and notices are available on our Web site at www.stb.dot.gov.

Decided: February 13, 2012.
By the Board, Rachel D. Campbell, Director, Office of Proceedings.
Jeffrey Herzig,
Clearance Clerk.

[FR Doc. 2012-3944 Filed 2-21-12; 8:45 am]

BILLING CODE 4915-01-P